DEPARTMENT OF TRANSPORTATION

Pipeline and Hazardous Materials Safety Administration

[Docket No. PHMSA-2013-0137]

Pipeline Safety: Information Collection Activities

AGENCY: Pipeline and Hazardous Materials Safety Administration (PHMSA), DOT.

ACTION: Notice and request for comments.

SUMMARY: In compliance with the Paperwork Reduction Act of 1995 (44 U.S.C. 3501 et seq.), this notice announces that the Information Collection Request (ICR) abstracted below is being forwarded to the Office of Management and Budget (OMB) for review and approval. A Federal Register Notice with a 60-day comment period soliciting comments on the following information collection was published on June 14, 2013, (78 FR 36016). PHMSA received one comment in response to that notice. PHMSA is publishing this notice to respond to the comment, provide the public with an additional 30 days to comment, and announce that the revised Information Collection will be submitted to the Office of Management and Budget (OMB) for approval.

ADDRESSES: Send comments regarding the burden estimate, including suggestions for reducing the burden, to OMB, Attention: Desk Officer for PHMSA, 725 17th Street NW., Washington, DC 20503.

DATES: Comments must be submitted on or before October 18, 2013.

FOR FURTHER INFORMATION CONTACT: Angela Dow by telephone at 202-366-1246, by fax at 202-366-4566, or by mail at U.S. Department of Transportation, Pipeline and Hazardous Materials Safety Administration, 1200 New Jersey Avenue SE., PHP-30, Washington, DC 20590-0001.

SUPPLEMENTARY INFORMATION: Section 1320.8(d), Title 5, Code of Federal Regulations requires PHMSA to provide interested members of the public and affected agencies an opportunity to comment on information collection and recordkeeping requests. This notice identifies an information collection request that PHMSA will be submitting to OMB for renewal and extension. This information collection is contained in the pipeline safety regulations at 49 CFR Parts 190-199.

Summary of Topic Comments/Responses

During the two-month response period for the information collection renewal, PHMSA received one comment from the Pipeline Safety Trust (PST). This 30-day notice responds to the comments, which may be found at http://www.regulations.gov, at docket number PHMSA-2013-0137. The following is a summary of the comment received:

Comment: The Pipeline Safety Trust (PST) believes that improvements are needed to the data collected by the NPMS. They point out, “The accuracy of the data is not high enough to adequately assist local communities who are planning or preparing for potential emergencies;” and suggest that PHMSA require, rather than suggest, NPMS data submissions be made annually. The PST also requests that PHMSA require data on pipelines that are in High Consequence Areas (HCAs) to be submitted at a greater degree of accuracy and recommends that PHMSA heeds NTSB's (P-11-1) recommendation that pipeline operators share “. . . system-specific information, including pipe diameter, operating pressure, product transported, and potential impact radius, about their pipeline systems . . .” through the NPMS system. PST believes that sharing this information would be a good way to make this important data accessible to emergency management and planning professionals in local communities.

PHMSA's Response: PHMSA will consider PST's comment when evaluating further changes to the NPMS data.

The following information is provided for each information collection: (1) Title of the information collection; (2) OMB control number; (3) type of request; (4) abstract of the information collection activity; (5) description of affected public; (6) estimate of total annual reporting and recordkeeping burden; and (7) frequency of collection. PHMSA will request a three-year term of approval for each information collection activity.

PHMSA requests comments on the following information collection:

SUPPLEMENTARY INFORMATION:

Title: National Pipeline Mapping Program.

OMB Control Number: 2137-0596.

Type of Request: Renewal of a Previously Approved Information Collection.

Abstract: Each operator of a pipeline facility (except distribution lines and gathering lines) must provide contact information and geospatial data on their pipeline system. This information should be updated on an annual basis. The provided information is incorporated into the National Pipeline Mapping System (NPMS) to support various regulatory programs, pipeline inspections, and authorized external customers. The periodic updates of operator pipeline data inform the NPMS of any changes to the data over the previous year and allow PHMSA to maintain and improve the accuracy of the information.

Affected Public: Operators of pipeline facilities (except distribution lines and gathering lines).

Estimated Number of Responses: 894.

Annual Estimated Total Annual Burden Hours: 16,312 hours.

Frequency of Collection: Annual.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of the date of publication in the Federal Register.

Authority: The Paperwork Reduction Act of 1995; 44 U.S.C. Chapter 35, as amended; and 49 CFR 1:48.

Issued in Washington, DC on September 12, 2013, under authority delegated in 49 CFR 1.97.
John A. Gale,
Director, Office of Standards and Rulemaking.

[FR Doc. 2013-22622 Filed 9-17-13; 8:45 am]

BILLING CODE 4910-60-P